DEPARTMENT OF HEALTH AND HUMAN SERVICES

Food and Drug Administration

[Docket No. FDA-2012-D-0881]

Draft Guidance for Industry on Self-Identification of Generic Drug Facilities, Sites, and Organizations; Availability; Correction

AGENCY: Food and Drug Administration, HHS.

ACTION: Notice; correction.

SUMMARY: The Food and Drug Administration (FDA) is correcting a notice that appeared in the Federal Register of Monday, August 27, 2012 (77 FR 51811). The document announced a draft guidance for industry entitled “Self-Identification of Generic Drug Facilities, Sites, and Organizations.” The document was published with an incorrect docket number. This document corrects that error.

FOR FURTHER INFORMATION CONTACT: Joyce Strong, Office of Policy, Food and Drug Administration, 10903 New Hampshire Ave. Bldg. 32, Rm. 3208, Silver Spring, MD 20993-0002, 301-796-9148.

SUPPLEMENTARY INFORMATION: In FR Doc. 2012-20946, appearing on page 51811 in the Federal Register of Monday, August 27, 2012, the following correction is made:

1. On page 51811, in the third column, the docket number is corrected to read “FDA-2012-D-0881”.

Dated: August 30, 2012.
Leslie Kux,
Assistant Commissioner for Policy.

[FR Doc. 2012-22784 Filed 9-14-12; 8:45 am]

BILLING CODE 4160-01-P